COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products and services previously furnished by such agencies.

DATES: Comments must be received on or before: May 24, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSNs—Product Names:

MR 13030—Vegetable Chopper

MR 13047—Container, Leakproof, On-the-Go, Clear, Lunch

MR 13048—Container, Leakproof, On-the-Go, Clear, Salad

Mandatory Source of Supply: Cincinnati Association for the Blind, Cincinnati, OH

Contracting Activity: Military Resale-Defense Commissary Agency

Deletions

The following products and services are proposed for deletion from the Procurement List:

Products

NSNs—Product Names:

6510-00-083-5573—Dressing, First Aid, Field, White

6510-00-159-4883—Dressing, First Aid, Field, Camouflaged, Pad

6510-00-200-3075—Compress and Bandage, Camouflaged, 2 in × 2 in

6510-00-200-3080—Compress and Bandage, Camouflaged, 4 in × 4 in

6510-00-200-3180—Bandage, Gauze, Compressed, Camouflaged, 2 in × 6 yds

6510-00-200-3185—Bandage, Gauze, Compressed, Camouflaged, 3 in × 6 yds

6510-00-200-3190—Bandage, Gauze, Compressed, Camouflaged, 4 in × 6 yds

6510-00-201-1755—Bandage, Muslin, Compressed, Olive Drab Green, Camouflaged, 37″ × 37″ × 52”

6510-00-201-7425—Dressing, First Aid, Field, Camouflaged 11¾″ × 11¾″

6510-00-201-7430—Dressing, First Aid, Field, Camouflaged 7¾″ × 7¼″

6510-00-201-7680—Compress and Skullcap, Head Dressing

Mandatory Source of Supply: Elwyn, Aston, PA

Contracting Activity: DLA TROOP SUPPORT, PHILADELPHIA, PA

Services

Service Type: Reprographics

Mandatory for: Department of Energy, Washington, DC

Mandatory Source of Supply: Sinai Hospital of Baltimore (Vocational Services Program), Baltimore, MD

Contracting Activity: ENERGY, DEPARTMENT OF, HEADQUARTERS PROCUREMENT SERVICES

Service Type: Grounds Maintenance

Mandatory for: U.S. Army Reserve, Southern Maryland Memorial USARC, Upper Marlboro, MD

Mandatory Source of Supply: Melwood Horticultural Training Center, Inc., Upper Marlboro, MD

Contracting Activity: DEPT OF THE ARMY, W6QK ACC-PICA

Service Type: Janitorial/Custodial

Mandatory for: MICC, West Point, USMA West Point, Sherman (Bldg. 738) & Lee Barracks (Bldg. 740), West Point Academy, West Point, NY

Mandatory Source of Supply: Access: Supports for Living Inc., Middletown, NY

Contracting Activity: DEPT OF THE ARMY, W6QM MICC-WEST POINT

Service Type: Administrative Services

Mandatory for: U.S. Department of the Treasury, Office of Technical Assistance, 740 15th Street NW, 4th Floor, Washington, DC

Mandatory for: Saudi-Arabian Joint Commission Office, Washington, DC

Mandatory Source of Supply: ServiceSource, Inc., Oakton, VA

Contracting Activity: DEPARTMENTAL OFFICES, NATIONAL OFFICE—DO OTPS/TOPS

Michael R. Jurkowski,
Deputy Director, Business & PL Operations.

[FR Doc. 2020-08713 Filed 4-23-20; 8:45 am]

BILLING CODE 6353-01-P